DEPARTMENT OF COMMERCE

National Oceanic and Atmospheric Administration

[I.D. 031505D]

Fisheries of the Exclusive Economic Zone Off Alaska; Application for an Exempted Fishing Permit

AGENCY: National Marine Fisheries Service (NMFS), National Oceanic and Atmospheric Administration (NOAA), Commerce.

ACTION: Notice; receipt of exempted fishing permit application.

SUMMARY: This notice announces receipt of an application for an exempted fishing permit (EFP) from John Gauvin and John Gruver. If granted, this permit would be used to continue the development and testing of a salmon excluder device in the Bering Sea pollock trawl fishery. It is intended to promote the objectives of the Fishery Management Plan for Groundfish of the Bering Sea and Aleutian Islands Management Area (FMP) by developing a method for reducing salmon bycatch in the Bering Sea pollock trawl fishery.

ADDRESSES: Copies of the EFP application are available by writing to Sue Salveson, Assistant Regional Administrator for Sustainable Fisheries, Alaska Region, NMFS, P.O. Box 21668, Juneau, AK 99802, Attn: Lori Durall.

FOR FURTHER INFORMATION CONTACT: Melanie Brown, 907-586-7228 or melanie.brown@noaa.gov.

SUPPLEMENTARY INFORMATION: NMFS manages the domestic groundfish fisheries in the Bering Sea and Aleutian Islands Management Area (BSAI) under the FMP. The North Pacific Fishery Management Council (Council) prepared the FMP under the Magnuson-Stevens Fishery Conservation and Management Act. Regulations governing the groundfish fisheries of the BSAI appear at 50 CFR parts 600 and 679. The FMP and the implementing regulations at §§ 679.6 and 600.745(b) authorize issuance of EFPs to allow fishing that would otherwise be prohibited. Procedures for issuing EFPs are contained in the implementing regulations.

NMFS received an application for an EFP from John Gauvin, Principal Investigator and John Gruver of the United Catcher Boats Association. The purpose of the project is to improve the performance of the salmon excluder device developed under an EFP in 2004 and 2005, and to validate the performance of this device for pollock trawls. The goal is to develop a device for pollock trawls that reduces salmon bycatch without significantly lowering catch rates of pollock.

The EFP would allow for two types of testing of the salmon excluder device in fall 2005 and spring 2006. In the first experiment, a catcher vessel would be used to test minor adjustments to the current excluder device design to improve performance. The second experiment would be conducted using a catcher/processor for the paired-tow experiment to validate the performance of the excluder device. Depending on the results from the work in 2005 and 2006, the EFP may need to be modified to allow for an additional year of testing.

Exemptions from regulations for salmon bycatch limits, observer requirements, salmon savings area closure, the Catcher Vessel Operating Area (CVOA), and total allowable catch amounts (TACs) for groundfish would be necessary to conduct the work. The taking of salmon during the experiment is crucial for determining the effectiveness of the device. Salmon taken during the experiment would not be counted toward the chinook and chum salmon bycatch limits under §§ 679.21(e)(1)(vii) and (e)(1)(viii). Potentially, the amount of salmon bycatch by the pollock trawl industry during the EFP period could approach or exceed the salmon bycatch limits. The additional salmon taken during the experiment would create an additional burden on the pollock trawl industry and may lead to closures of the salmon savings areas, if the EFP salmon were counted toward the salmon bycatch limits. Approximately 2,500 chum salmon and 1,500 chinook salmon would be required to support the project.

The applicants also have requested an exemption from closures of the Chinook Salmon Savings Areas and the Chum Salmon Savings Area (§§ 679.21(e)(7)(vii) and (e)(7)(viii)). The experiment must be conducted in areas of salmon concentration to ensure a sufficient sample size. The salmon savings areas are areas of known concentration of salmon and provide an ideal location for conducting the experiment and ensuring that the vessels encounter concentrations of salmon.

Groundfish taken under the EFP would be exempt from the TACs specified in the annual harvest specifications (§ 679.20). A total of 2,500 metric tons (mt) of groundfish (primarily pollock) would be taken during the EFP work and would not be included in the harvest applied against the Bering Sea groundfish TACs, including the pollock TAC of approximately 1.5 million mt. The 2005 Bering Sea pollock acceptable biological catch is 1.960 million mt, well above the combined TAC and the additional harvest anticipated from the project. Because of the nature of groundfish bycatch in the pollock fishery, the harvest of other groundfish species during the project is expected to be very minor.

The experiment using the catcher/processor would require exemption from the CVOA restriction (§ 679.22(a)(5)) because of the location of the Chinook Salmon Savings Area in the CVOA. Catcher/processors are prohibited from operating in the CVOA during the B season. It would be necessary for the catcher/processor to conduct tows in this area to ensure encountering sufficient pollock and salmon.

The EFP would include an exemption from the observer requirements at § 679.50. The applicants would use “sea samplers” who are NMFS-trained observers. They would not be deployed as NMFS observers, however, at the time of the experiment. The “sea samplers” would conduct the data collection and perform other observer duties that would normally be required for vessels directed fishing for pollock.

The activities under the EFP are not expected to have a significant impact on the marine environment, but the potential effects on the marine environment will be further analyzed during review of the application.

In accordance with § 679.6, NMFS has determined that the proposal warrants further consideration and has initiated consultation with the Council by forwarding the application to the Council. The Council will consider the EFP application during its April 4-11, 2005, meeting which will be held at the Hilton Hotel in Anchorage, AK. The applicants have been invited to appear in support of the application, if the applicants desire. Interested persons may comment on the application at the Council meeting during public testimony. A notice announcing the upcoming meeting will be published in the Federal Register.

A copy of the application is available for review from NMFS (see ADDRESSES).

Authority: 16 U.S.C. 1801 et seq.

Dated: March 15, 2005.
Alan D. Risenhoover,
Acting Director, Office of Sustainable Fisheries, National Marine Fisheries Service.

[FR Doc. E5-1186 Filed 3-17-05; 8:45 am]

BILLING CODE 3510-22-S